INTERNATIONAL TRADE COMMISSION

[USITC SE-19-039]

Sunshine Act Meetings

Agency Holding the Meeting: United States International Trade Commission.

TIME AND DATE: November 14, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 731-TA-1438 and 1440 (Final) (Acetone from Singapore and Spain). The Commission is currently scheduled to complete and file its determinations and views of the Commission by November 29, 2019.

5. Outstanding action jackets: None.

The Commission is holding the meeting under the Government in the Sunshine Act, 5 U.S.C. 552(b). In accordance with Commission policy, subject matter listed above, not disposed of at the scheduled meeting, may be carried over to the agenda of the following meeting.

By order of the Commission:
Issued: November 4, 2019.
William Bishop,
Supervisory Hearings and Information Officer.

[FR Doc. 2019-24377 Filed 11-5-19; 11:15 am]

BILLING CODE 7020-02-P